NATIONAL SCIENCE FOUNDATION

Proposal Review Panel for Materials Research; Notice of Meeting

In accordance with the Federal Advisory Committee Act (Pub. L. 92-463 as amended), the National Science Foundation announces the following meeting:

Name: Site Visit review of the Partnership for Research and Education in Materials at Howard University, Proposal Review Panel for Materials Research (1203).

Dates & Times: Thursday, January 29, 2009; 7:45 a.m.-9 p.m.; Friday, January 30, 2009; 8 a.m.-3:30 p.m.

Place: Howard University, Washington, DC.

Type of Meeting: Part-open.

Contact Person for More Information: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the PREM at Howard University, Washington, DC.

Agenda:

Thursday, January 29, 2009

7:45 a.m.-9 a.m.: Closed—Executive Session

9 a.m.-4 p.m.: Open—Review of the Brown MRSEC

4 p.m.-6 p.m.: Closed—Executive Session

6 p.m.-9 p.m.: Open—Poster Session and Dinner

Friday January 30, 2009

8 a.m.-9 a.m.: Closed—Executive session

9 a.m.-10 a.m.: Open—Review of the Brown MRSEC

10 a.m.-3:30 p.m.: Closed—Executive Session, Draft and Review Report

Reason for Closing: The work being reviewed may include information of a proprietary or confidential nature, including technical information; financial data, such as salaries and personal information concerning individuals associated with the proposals. These matters are exempt under 5 U.S.C. 552b(c), (4) and (6) of the Government in the Sunshine Act.

Dated: December 2, 2008.
Susanne Bolton,
Committee Management Officer.

[FR Doc. E8-28801 Filed 12-4-08; 8:45 am]

BILLING CODE 7555-01-P